FEDERAL COMMUNICATIONS COMMISSION

47 CFR Parts 73 and 76

[MM Docket No. 00-10; FCC 01-123 and MM Docket No. 93-215; FCC 95-502]

Establishment of Class A TV Service and Cable Television Rate Regulation; Cost of Service Rules—Clarification Regarding Information Collection Requirements; Correction

AGENCY: Federal Communications Commission.

ACTION: Final rule; correction.

SUMMARY: This document corrects a final rule; clarification document published at 78 FR 12967 on February 26, 2013. This document corrects several references in the rule to read “47 CFR 76.922(i)(6)(ii) through (viii).”

DATES: Effective May 10, 2013.

FOR FURTHER INFORMATION CONTACT: Shirley Suggs, 202 418-1568, Media Bureau.

SUPPLEMENTARY INFORMATION: The Commission published a document in the Federal Register, 78 FR 12967 on February 26, 2013, clarifying the effective date of rules. This document corrects several CFR references.

Correction

1. On page 12968, in the first column, in the DATES section, “47 CFR 76.922(i)(6)(i) and (i)(7)” is corrected to read “47 CFR 76.922(i)(6)(ii) through (viii)”.

2. On page 12968, in the second column, under SUPPLEMENTARY INFORMATION, “47 CFR 76.922(i)(6)(i) and (i)(7)” is corrected to read “47 CFR 76.922(i)(6)(ii) through (viii)”.

3. On page 12968, in the third column, under SUPPLEMENTARY INFORMATION, “76.922(i)(6)(i) and (i)(7)-61 FR 9367, March 8, 1996” is corrected to read “76.922(i)(6)(ii) through (viii), March 8, 1996”.

Federal Communications Commission.
Marlene H. Dortch,
Secretary.

[FR Doc. 2013-10981 Filed 5-9-13; 8:45 am]

BILLING CODE 6712-01-P